DEPARTMENT OF COMMERCE

Foreign-Trade Zones Board

[S-125-2015]

Foreign-Trade Zone 77—Memphis, Tennessee Application for Expansion of Subzone 77E; Cummins, Inc., Memphis, Tennessee

An application has been submitted to the Foreign-Trade Zones (FTZ) Board by the City of Memphis, Tennessee, grantee of FTZ 77, requesting to expand Subzone 77E at the facilities of Cummins, Inc., located in Memphis, Tennessee. The application was submitted pursuant to the provisions of the Foreign-Trade Zones Act, as amended (19 U.S.C. 81a-81u), and the regulations of the FTZ Board (15 CFR part 400). It was formally docketed on August 28, 2015.

Subzone 77E was approved on December 20, 2010 (Board Order 1735, 76 FR 87, 01/03/2011) and currently consists of one site (23.3 acres) located at 4155 Quest Way, Memphis.

The applicant is requesting authority to expand the subzone to include two additional sites: Proposed Site 2 (19.91 acres)—5800 Challenge Drive, Memphis; and, Proposed Site 3 (20.9 acres)—4650 Quality Drive, Memphis. The existing subzone and expanded portion would be subject to the existing activation limit of FTZ 77. No authorization for production activity has been requested at this time.

In accordance with the FTZ Board's regulations, Kathleen Boyce of the FTZ Staff is designated examiner to review the application and make recommendations to the Executive Secretary.

Public comment is invited from interested parties. Submissions shall be addressed to the FTZ Board's Executive Secretary at the address below. The closing period for their receipt is October 20, 2015. Rebuttal comments in response to material submitted during the foregoing period may be submitted during the subsequent 15-day period to November 4, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov or (202) 482-1346.

Dated: August 28, 2015.
Andrew McGilvray,
Executive Secretary.

[FR Doc. 2015-22859 Filed 9-9-15; 8:45 am]

BILLING CODE 3510-DS-P